DEPARTMENT OF HEALTH AND HUMAN SERVICES

Health Resources and Services Administration

National Vaccine Injury Compensation Program: List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2019, through March 31, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: April 22, 2019.
George Sigounas,
Administrator.

List of Petitions Filed

1. Robert Kleinknecht, Naples, Florida, Court of Federal Claims No: 19-0325V

2. David Pavish, Friendswood, Texas, Court of Federal Claims No: 19-0326V

3. Mengyao Hu, Boston, Massachusetts, Court of Federal Claims No: 19-0327V

4. Robert Vasquez, Fresno, California, Court of Federal Claims No: 19-0328V

5. Richard G. Doble, Brewer, Maine, Court of Federal Claims No: 19-0335V

6. Colleen Garten, Dunedin, Florida, Court of Federal Claims No: 19-0336V

7. Isaac Friedman, Jacksonville, Florida, Court of Federal Claims No: 19-0337V

8. Claretta Edwards, Oak Park, Illinois, Court of Federal Claims No: 19-0338V

9. Susan Cheney, Encinitas, California, Court of Federal Claims No: 19-0341V

10. Mong Ha Vivian Cheung, San Mateo, California, Court of Federal Claims No: 19-0342V

11. Pamela Vibbard, Olympia, Washington, Court of Federal Claims No: 19-0343V

12. Ivie Dotson on behalf of A.D., Cedar City, Utah, Court of Federal Claims No: 19-0344V

13. Susanna Edelstein, Glenview, Illinois, Court of Federal Claims No: 19-0345V

14. Cynthia Rublaitus, Alton, Illinois, Court of Federal Claims No: 19-0346V

15. Doreen E. Beer, Roanoke, Virginia, Court of Federal Claims No: 19-0348V

16. David McBane on behalf of R.M., Portland, Oregon, Court of Federal Claims No: 19-0350V

17. Elizabeth Levine, Denville, New Jersey, Court of Federal Claims No: 19-0351V

18. Ryan Faust, Boston, Massachusetts, Court of Federal Claims No: 19-0354V

19. Kurt T. Westerlund, Pittsburgh, Pennsylvania, Court of Federal Claims No: 19-0355V

20. Patrick Hansen, Mankato, Minnesota, Court of Federal Claims No: 19-0356V

21. Daniel McAvoy, Chandler, Arizona, Court of Federal Claims No: 19-0357V

22. Eileen Rescheske, Oshkosh, Wisconsin, Court of Federal Claims No: 19-0359V

23. Susan Leone, White Plains, New York, Court of Federal Claims No: 19-0360V

24. Megan Murphy Jones, Washington, District of Columbia, Court of Federal Claims No: 19-0361V

25. Karla Strand, Washington, District of Columbia, Court of Federal Claims No: 19-0362V

26. Jennifer Thompson, Charlottesville, Virginia, Court of Federal Claims No: 19-0363V

27. Crystal Mertins, Dallas, Texas, Court of Federal Claims No: 19-0364V

28. Rozene K. Whitaker-Jones, Canton, Georgia, Court of Federal Claims No: 19-0365V

29. Gerald Hines, Wilsonville, Oregon, Court of Federal Claims No: 19-0366V

30. Naila Hanif, Westbury, New York, Court of Federal Claims No: 19-0367V

31. Melissa Strait, Windsor, Wisconsin, Court of Federal Claims No: 19-0368V

32. Lorraine Fleagle, Philadelphia, Pennsylvania, Court of Federal Claims No: 19-0370V

33. Amy Redford, Tampa, Florida, Court of Federal Claims No: 19-0375V

34. Carol Gordon, Houston, Texas, Court of Federal Claims No: 19-0378V

35. Erica Winebrenner on behalf of S.W., Deceased, Crossville, Tennessee, Court of Federal Claims No: 19-0379V

36. Tom Janus and Beata Walerych Janus on behalf of M.J., Mineola, New York, Court of Federal Claims No: 19-0380V

37. Aaron Scott, Waupun, Wisconsin, Court of Federal Claims No: 19-0381V

38. Michael Terry, Douglasville, Georgia, Court of Federal Claims No: 19-0382V

39. Marilyn Dixon Hill, Runnemede, New Jersey, Court of Federal Claims No: 19-0384V

40. Tina Murry, Shoreline, Washington, Court of Federal Claims No: 19-0385V

41. Diane R. Hecht, Webster, New York, Court of Federal Claims No: 19-0387V

42. Mercedes Gallagher, San Diego, California, Court of Federal Claims No: 19-0389V

43. Paula Roberts, Atlanta, Georgia, Court of Federal Claims No: 19-0390V

44. Sue Decoretz, San Antonio, Texas, Court of Federal Claims No: 19-0391V

45. Ann Furman, Kelso, Washington, Court of Federal Claims No: 19-0392V

46. Charles Bracewell, Boston, Massachusetts, Court of Federal Claims No: 19-0393V

47. Timothy Nabulsi, Lantana, Florida, Court of Federal Claims No: 19-0395V

48. Dolores Walton, Boston, Massachusetts, Court of Federal Claims No: 19-0396V

49. Jane B. Rushing, Mount Gilead, North Carolina, Court of Federal Claims No: 19-0397V

50. Nadine Kraus, Buffalo, New York, Court of Federal Claims No: 19-0398V

51. Katy Parrott, Austin, Texas, Court of Federal Claims No: 19-0401V

52. John Gold on behalf of Norma A. Gold, Deceased, Elkhart, Indiana, Court of Federal Claims No: 19-0402V

53. Jennifer Anderson, Minneapolis, Minnesota, Court of Federal Claims No: 19-0403V

54. Christine Bedell on behalf of Thomas Bedell, Devereux, Florida, Court of Federal Claims No: 19-0404V

55. Veronica Sanderson, Lakeville, Minnesota, Court of Federal Claims No: 19-0407V

56. Jessica Davis on behalf of C.D., Philadelphia, Pennsylvania, Court of Federal Claims No: 19-0410V

57. Marcus Smith, Brandywine, Maryland, Court of Federal Claims No: 19-0411V

58. Tori Smith, Greenville, South Carolina, Court of Federal Claims No: 19-0412V

59. Daniel Payne, Peoria, Arizona, Court of Federal Claims No: 19-0413V

60. Johnny Matthews, Florence, South Carolina, Court of Federal Claims No: 19-0414V

61. Tonya Lemay, Cranston, Rhode Island, Court of Federal Claims No: 19-0415V

62. Gregory Bacon, Big Piney, Wyoming, Court of Federal Claims No: 19-0416V

63. Andrea Keady, Wilmington, Delaware, Court of Federal Claims No: 19-0419V

64. Dawn L. Bonsall, Medway, Maine, Court of Federal Claims No: 19-0420V

65. Kenneth Gumm, Sr., Vero Beach, Florida, Court of Federal Claims No: 19-0421V

66. Adam Gapen, Minneapolis, Minnesota, Court of Federal Claims No: 19-0422V

67. Patricia Murray, Manalapan, New Jersey, Court of Federal Claims No: 19-0424V

68. Carol Scott, Davidson, North Carolina, Court of Federal Claims No: 19-0427V

69. Jeffrey Crosse, Aberdeen, Maryland, Court of Federal Claims No: 19-0429V

70. Amy Thompson, Batavia, Illinois, Court of Federal Claims No: 19-0430V

71. Odaine Tomlinson on behalf of Catelyn Rose Tomlinson, Manassas, Virginia, Court of Federal Claims No: 19-0431V

72. John Mates, North Palm Beach, Florida, Court of Federal Claims No: 19-0432V

73. Katie M. Miller, Andover, Minnesota, Court of Federal Claims No: 19-0433V

74. Rebekah Fisler, Anderson, South Carolina, Court of Federal Claims No: 19-0434V

75. Christopher Lagos, Staten Island, New York, Court of Federal Claims No: 19-0436V

76. Maureen Nelson, Hempstead, New York, Court of Federal Claims No: 19-0438V

77. Jennifer Venier, Washington, District of Columbia, Court of Federal Claims No: 19-0439V

78. Sara Dorman, Paramus, New Jersey, Court of Federal Claims No: 19-0444V

79. Vera Veronica Kelly, Richmond, Virginia, Court of Federal Claims No: 19-0445V

80. Alexandra Friedman, Phoenix, Arizona, Court of Federal Claims No: 19-0446V

81. Susan Reifman, Boise, Idaho, Court of Federal Claims No: 19-0447V

82. Dameond Sigmond Reed, Charleston, South Carolina, Court of Federal Claims No: 19-0448V

83. Michelle A. Miller, Lancaster, New York, Court of Federal Claims No: 19-0450V

84. Cheri Sleeth, Boston, Massachusetts, Court of Federal Claims No: 19-0451V

85. Laurie L. Ogle, North Bend, Washington, Court of Federal Claims No: 19-0452V

86. Keyonna Michie on behalf of K.W., Bronx, New York, Court of Federal Claims No: 19-0453V

87. Robert Thomas Frey, Prospect, Kentucky, Court of Federal Claims No: 19-0454V

88. Darrell Barrett, Booneville, Kentucky, Court of Federal Claims No: 19-0456V

89. Roy Bristow, San Antonio, Texas, Court of Federal Claims No: 19-0457V

90. Cheryl Porter, Gainesville, Florida, Court of Federal Claims No: 19-0458V

91. Samantha Deters on behalf of S.D., Glen Burnie, Maryland, Court of Federal Claims No: 19-0459V

92. Ron Dimant and Christina Saczek on behalf of L.D., Boston, Massachusetts, Court of Federal Claims No: 19-0461V

93. Benjamin Larson, Washington, District of Columbia, Court of Federal Claims No: 19-0462V

94. Dwayne Palacio, Gardena, California, Court of Federal Claims No: 19-0466V

95. Amy Hatfield, Transfer, Pennsylvania, Court of Federal Claims No: 19-0467V

96. Lawrence Romine, Walnut Creek, California, Court of Federal Claims No: 19-0468V

97. Taylor Blackmore, Monterey, California, Court of Federal Claims No: 19-0470V

[FR Doc. 2019-08381 Filed 4-25-19; 8:45 am]

BILLING CODE 4165-15-P